SUSQUEHANNA RIVER BASIN COMMISSION

Projects Approved for Consumptive Uses of Water

AGENCY: Susquehanna River Basin Commission.

ACTION: Notice.

SUMMARY: This notice lists Approvals by Rule for projects by the Susquehanna River Basin Commission during the period set forth in DATES.

DATES: May 1-31, 2023.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries May be sent to the above address.

SUPPLEMENTARY INFORMATION: This notice lists the projects, described below, receiving approval for the consumptive use of water pursuant to the Commission's approval by rule process set forth in 18 CFR 806.22 (f) for the time period specified above.

Water Source Approval—Issued Under 18 CFR 806.22(f)

1. Repsol Oil & Gas USA, LLC; Pad ID: HARVEY (02 192) D; ABR-202305002; Covington Township, Tioga County, Pa.; Consumptive Use of Up to 6.0000 mgd; Approval Date: May 8, 2023.

2. Repsol Oil & Gas USA, LLC; Pad ID: TWIN RIDGE (02 185); ABR-201804001.R1; Covington Township, Tioga County, Pa.; Consumptive Use of Up to 6.0000 mgd; Approval Date: May 8, 2023.

3. Seneca Resources Company, LLC; Pad ID: DCNR 100 Pad R; ABR-201304013.R2; Lewis Township, Lycoming County, Pa.; Consumptive Use of Up to 4.0000 mgd; Approval Date: May 8, 2023.

4. Seneca Resources Company, LLC; Pad ID: SGL 90D Pad; ABR-201103021.R2; Lawrence Township, Clearfield County, Pa.; Consumptive Use of Up to 4.0000 mgd; Approval Date: May 8, 2023.

5. Coterra Energy Inc.; Pad ID: MooreS P1; ABR-201804002.R1; Jessup Township, Susquehanna County, Pa.; Consumptive Use of Up to 5.0000 mgd; Approval Date: May 9, 2023.

6. Pennsylvania General Energy Company, L.L.C.; Pad ID: COP Tract 322 Pad C; ABR-201304006.R2; Cummings Township, Lycoming County, Pa.; Consumptive Use of Up to 4.5000 mgd; Approval Date: May 9, 2023.

7. Pennsylvania General Energy Company, L.L.C.; Pad ID: COP Tract 596 Pad B; ABR-201304007.R2; Liberty Township, Tioga County, Pa.; Consumptive Use of Up to 4.5000 mgd; Approval Date: May 9, 2023.

8. Chesapeake Appalachia, L.L.C.; Pad ID: Runabuck Drilling Pad; ABR-201305008.R2; Elkland Township, Sullivan County, Pa.; Consumptive Use of Up to 10.0000 mgd; Approval Date: May 24, 2023.

9. Repsol Oil & Gas USA, LLC; Pad ID: HUGHES (02 204) E; ABR-201804003.R1; Liberty Township, Tioga County, Pa.; Consumptive Use of Up to 6.0000 mgd; Approval Date: May 24, 2023.

10. Seneca Resources Company, LLC; Pad ID: DCNR 100 Pad J; ABR-202305001; Lewis Township, Lycoming County, Pa.; Consumptive Use of Up to 4.0000 mgd; Approval Date: May 24, 2023.

11. SWN Production Company, LLC; Pad ID: Martin (Pad 11); ABR-201304009.R2; Standing Stone Township, Bradford County, Pa.; Consumptive Use of Up to 4.9990 mgd; Approval Date: May 24, 2023.

12. SWN Production Company, LLC; Pad ID: RU-23 MITCHELL PAD; ABR-201304012.R2; New Milford Township, Susquehanna County, Pa.; Consumptive Use of Up to 4.9990 mgd; Approval Date: May 24, 2023.

13. SWN Production Company, LLC; Pad ID: Tice (13 Pad); ABR-201304011.R2; Orwell Township, Bradford County, Pa.; Consumptive Use of Up to 4.9990 mgd; Approval Date: May 24, 2023.

14. SWN Production Company, LLC; Pad ID: WY-10-FALCONERO-PAD; ABR-201804004.R1; Forkston Township, Wyoming County, Pa.; Consumptive Use of Up to 4.9990 mgd; Approval Date: May 24, 2023.

15. Campbell Oil & Gas, Inc.; Pad ID: Mid Penn Unit A Well Pad; ABR-201304002.R2; Bigler Township, Clearfield County, Pa.; Consumptive Use of Up to 2.0000 mgd; Approval Date: May 28, 2023.

16. Chesapeake Appalachia, L.L.C.; Pad ID: Hooker; ABR-201305001.R2; Auburn Township, Susquehanna County, Pa.; Consumptive Use of Up to 7.5000 mgd; Approval Date: May 28, 2023.

17. Chesapeake Appalachia, L.L.C.; Pad ID: Lightcap; ABR-201303009.R2; Overton Township, Bradford County, Pa.; Consumptive Use of Up to 7.5000 mgd; Approval Date: May 28, 2023.

18. Chesapeake Appalachia, L.L.C.; Pad ID: P. Cullen A Drilling Pad; ABR-201304019.R2; Overton Township, Bradford County, Pa.; Consumptive Use of Up to 7.5000 mgd; Approval Date: May 28, 2023.

19. Chesapeake Appalachia, L.L.C.; Pad ID: Visneski; ABR-201305002.R2; Mehoopany Township, Wyoming County, Pa.; Consumptive Use of Up to 7.5000 mgd; Approval Date: May 28, 2023.

20. Coterra Energy Inc.; Pad ID: ThomasR P1; ABR-201305005.R2; Lenox Township, Susquehanna County, Pa.; Consumptive Use of Up to 5.0000 mgd; Approval Date: May 28, 2023.

21. Repsol Oil & Gas USA, LLC; Pad ID: REPINE (07 022) T; ABR-201305009.R2; Apolacon Township, Susquehanna County, Pa.; Consumptive Use of Up to 6.0000 mgd; Approval Date: May 28, 2023.

22. Seneca Resources Company, LLC; Pad ID: Gamble Pad C Alt; ABR-201605001.R1; Gamble Township, Lycoming County, Pa.; Consumptive Use of Up to 4.0000 mgd; Approval Date: May 28, 2023.

23. Seneca Resources Company, LLC; Pad ID: Root #1; ABR-201605003.R1; Jackson Township, Tioga County, Pa.; Consumptive Use of Up to 4.0000 mgd; Approval Date: May 28, 2023.

24. Seneca Resources Company, LLC; Pad ID: Showalter 822; ABR-201105018.R2; Chatham Township, Tioga County, Pa.; Consumptive Use of Up to 4.0000 mgd; Approval Date: May 28, 2023.

25. Coterra Energy Inc.; Pad ID: DiazM P1; ABR-201805003.R1; Springville Township, Susquehanna County, Pa.; Consumptive Use of Up to 5.0000 mgd; Approval Date: May 30, 2023.

26. EQT ARO LLC; Pad ID: Alden Evans Pad A; ABR-201805001.R1; Cascade Township, Lycoming County, Pa.; Consumptive Use of Up to 4.0000 mgd; Approval Date: May 30, 2023.

27. Repsol Oil & Gas USA, LLC; Pad ID: KROPP (07 017) C; ABR-201305010.R2; Apolacon Township, Susquehanna County, Pa.; Consumptive Use of Up to 6.0000 mgd; Approval Date: May 30, 2023.

28. Repsol Oil & Gas USA, LLC; Pad ID: SCHMITT (07 043) D; ABR-201305012.R2; Apolacon Township, Susquehanna County, Pa.; Consumptive Use of Up to 6.0000 mgd; Approval Date: May 30, 2023.

29. Repsol Oil & Gas USA, LLC; Pad ID: TAYLOR BUCKHORN LAND CO (07 010); ABR-201305011.R2; Apolacon Township, Susquehanna County, Pa.; Consumptive Use of Up to 6.0000 mgd; Approval Date: May 30, 2023.

30. SWN Production Company, LLC; Pad ID: Ferguson-Keisling (Pad B); ABR-201304010.R2; Herrick Township, Bradford County, Pa.; Consumptive Use of Up to 4.9990 mgd; Approval Date: May 30, 2023.

31. Coterra Energy Inc.; Pad ID: HouselR P1; ABR-201305015.R2; Lenox Township, Susquehanna County, Pa.; Consumptive Use of Up to 5.0000 mgd; Approval Date: May 31, 2023.

32. Coterra Energy Inc.; Pad ID: HustonJ P1; ABR-201305014.R2; Brooklyn Township, Susquehanna County, Pa.; Consumptive Use of Up to 5.0000 mgd; Approval Date: May 31, 2023.

(Authority: Public Law 91-575, 84 Stat. 1509 et seq., 18 CFR parts 806 and 808)

Dated: June 7, 2023.
Jason E. Oyler,
General Counsel and Secretary to the Commission.

[FR Doc. 2023-12546 Filed 6-12-23; 8:45 am]

BILLING CODE P